DEPARTMENT OF TRANSPORTATION

Federal Aviation Administration

14 CFR Part 71

[Docket No. FAA-2020-0525 Airspace Docket No. 20-ASO-7]

RIN 2120-AA66

Amendment and Establishment of Area Navigation (RNAV) Routes; South-Central Florida Metroplex Project

AGENCY: Federal Aviation Administration (FAA), DOT.

ACTION: Final rule.

SUMMARY: This action amends two existing low altitude RNAV routes (T-routes), and establishes nine new T-routes in support of the South-Central Florida Metroplex Project. The changes made in this rule will reduce the dependency of the National Airspace System (NAS) on ground-based navigational systems, and assist with the transition to a more efficient Performance Based Navigation (PBN) route structure.

DATES: Effective date 0901 UTC, April 22, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in Florida to improve the efficiency of the NAS by lessening the dependency on ground-based navigation aids.

History

The FAA published a notice of proposed rulemaking for Docket No. FAA-2020-0525 in the Federal Register (85 FR 36355; June 16, 2020) amending two existing low altitude RNAV routes (T-routes), and establishing nine new T-routes in support of the South-Central Florida Metroplex Project. Interested parties were invited to participate in this rulemaking effort by submitting written comments on the proposal. One comment was received, which was not germane to the NPRM.

United States Area Navigation routes are published in paragraph 6011 of FAA Order 7400.11E, dated July 21, 2020, and effective September 15, 2020, which is incorporated by reference in 14 CFR 71.1. The RNAV routes listed in the document would be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends 14 CFR part 71 by amending two existing low altitude RNAV routes (T-routes), and establishing nine new T-routes in support of the South-Central Florida Metroplex Project. The purpose of the routes is to expand the availability of RNAV, and improve the efficiency of the NAS by reducing the dependency on ground-based navigation systems. The following is a general description of the amended and new routes.

T-208: The FAA is amending T-208. T-208 is an existing route that extends from the Gators, FL (GNV), VORTAC eastward to the CARRA, FL, fix, then to the Ormond Beach (OMN) VORTAC. This action removes the Gators VORTAC, the CARRA fix, and the Ormond Beach VORTAC from the route. T-208 is realigned to start at the WALEE, FL, waypoint (WP) (located to the east of the current Gators, FL, VORTAC). The route then proceeds eastward to the MMKAY, FL; and the FOXAM, FL, WPs, (near the Florida east coast), then it turns southward through the SUUGR, FL, WP, the SMYRA, FL; OAKIE, FL; MALET, FL; TICCO, FL; and INDIA, FL, fixes, then continues southward through the DIMBY, FL, WP; the VALKA, FL, fix, the SULTY, FL; WIXED, FL; CLEFF, FL; DURRY, FL; and BOBOE, FL, WPs; and, terminates at the SHANC, FL, fix (located about 17 nautical miles (NM) northwest of the Fort Lauderdale, FL, VOR/DME). The amended route extends between the WALEE, FL, WP, and the SHANC, FL, fix.

T-210: The FAA is amending T-208. T-210 is an existing route that extends from the Taylor, FL (TAY), VORTAC, to the OHLEE, FL, WP, to the BRADO, FL, fix. The FAA is removing the Taylor, FL, VORTAC from the route and adding the MARQO, FL, WP (in the vicinity of the Taylor VORTAC) as the new start point. From the MARQO, FL, WP, the route proceeds southeastward through the OHLEE, FL, WP, and BRADO, FL, fix (as currently charted). After the BRADO, FL, fix, the route turns southward through the MMKAY, FL, and MRUTT, FL, WPs, the GUANO, FL, fix, and the KIZER, FL, fix (located about 23 NM north of the Orlando, FL (ORL), VORTAC). After KIZER, FL, the route turns southwestward through the EMSEE, FL; DAIYL, FL; AKOJO, FL; and PUNQU, FL, WPs, and terminates at the VARZE, FL, WP.

T-336: T-336 is a new route that extends between the TROYR, FL, WP, and the WIXED, FL, WP.

T-337: T-337 is a new route that extends between the SWENY, FL, WP, and the WEZER, FL, WP.

T-339: T-339 is a new route that extends between the KARTR, FL, WP, and the ODDEL, FL, WP.

T-341: T-341 is a new route that extend between the MEAGN, FL, WP, and the MARQO, FL, WP.

T-343: T-343 is a new route that extends between the WORPP, FL, WP, and the INDIA, FL, WP.

T-345: T-345 is a new route that extends between the MARKT, FL, WP, and the DEARY, FL, WP.

T-347: T-347 is a new route that extends between the CLEFF, FL, WP, and the SEBAG, FL, WP.

T-349: T-349 is a new route that extends between the VARZE, FL, WP, and the TROYR, FL, WP.

T-353: T-353 is a new route that extends between the FEBRO, FL, WP, and the ASTOR, FL, WP.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending low altitude RNAV routes T-208 and T-210, and establishing low altitude RNAV routes T-336, T-337, T-339, T-341, T-343, T-345, T-347, T-349, and T-355 in the south-central United States qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6011—United States Area Navigation Routes.

* * * * *

T-208 WALEE, FL to SHANC, FL [Amended]

WALEE, FL WP (Lat. 29°41′36.05″ N, long. 082°14′07.07″ W)

MMKAY, FL WP (Lat. 29°41′55.42″ N, long. 081°26′49.15″ W)

FOXAM, FL WP (Lat. 29°33′37.73″ N, long. 081°09′37.84″ W)

SUUGR, FL WP (Lat. 29°19′40.38″ N, long. 081°07′20.79″ W)

SMYRA, FL FIX (Lat. 29°00′19.48″ N, long. 080°59′34.51″ W)

OAKIE, FL FIX (Lat. 28°51′04.26″ N, long. 080°55′52.35″ W)

MALET, FL FIX (Lat. 28°41′29.90″ N, long. 080°52′04.30″ W)

TICCO, FL FIX (Lat. 28°31′00.50″ N, long. 080°47′52.80″ W)

INDIA, FL FIX (Lat. 28°26′04.19″ N, long. 080°45′55.25″ W)

DIMBY, FL WP (Lat. 28°04′52.54″ N, long. 080°37′37.61″ W)

VALKA, FL FIX (Lat. 27°55′06.06″ N, long. 080°34′17.17″ W)

SULTY, FL WP (Lat. 27°48′12.41″ N, long. 080°32′59.17″ W)

WIXED, FL WP (Lat. 27°41′24.86″ N, long. 080°29′56.56″ W)

CLEFF, FL WP (Lat. 27°00′03.31″ N, long. 080°32′38.27″ W)

DURRY, FL WP (Lat. 26°43′46.96″ N, long. 080°24′09.25″ W)

BOBOE, FL WP (Lat. 26°28′48.72″ N, long. 080°23′05.23″ W)

SHANC, FL FIX (Lat. 26°18′51.14″ N, long. 080°20′00.16″ W)

* * * * *

T-210 MARQO, FL to VARZE, FL [Amended]

MARQO, FL WP (Lat. 30°30′53.57″ N, long. 082°32′45.62″ W)

OHLEE, FL WP (Lat. 30°16′06.04″ N, long. 082°06′32.53″ W)

BRADO, FL FIX (Lat. 29°55′21.88″ N, long. 081°28′07.89″ W)

MMKAY, FL WP (Lat. 29°41′55.42″ N, long. 081°26′49.15″ W)

MRUTT, FL WP (Lat. 29°12′12.40″ N, long. 081°23′55.50″ W)

GUANO, FL FIX (Lat. 29°05′58.73″ N, long. 081°23′18.93″ W)

KIZER, FL FIX (Lat. 28°55′26.00″ N, long. 081°22′17.83″ W)

EMSEE, FL WP (Lat. 28°50′43.72″ N, long. 081°32′47.03″ W)

DAIYL, FL WP (Lat. 28°49′10.74″ N, long. 081°41′29.68″ W)

AKOJO, FL WP (Lat. 28°45′44.01″ N, long. 081°43′31.54″ W)

PUNQU, FL WP (Lat. 28°34′33.65″ N, long. 081°49′22.43″ W)

VARZE, FL WP (Lat. 28°16′25.85″ N, long. 082°01′44.51″ W)

* * * * *

T-336 TROYR, FL to WIXED, FL [New]

TROYR, FL WP (Lat. 29°34′20.92″ N, long. 083°01′52.68″ W)

OMMNI, FL WP (Lat. 28°51′29.29″ N, long. 082°09′41.75″ W)

PUNQU, FL WP (Lat. 28°34′33.65″ N, long. 081°49′22.43″ W)

YOJIX, FL WP (Lat. 28°02′44.04″ N, long. 081°33′45.34″ W)

YONMA, FL WP (Lat. 28°03′55.68″ N, long. 081°24′31.18″ W)

ODDEL, FL WP (Lat. 28°05′45.51″ N, long. 081°10′10.24″ W)

DEARY, FL WP (Lat. 28°06′02.53″ N, long. 080°54′51.40″ W)

WIXED, FL WP (Lat. 27°41′24.86″ N, long. 080°29′56.56″ W)

* * * * *

T-337 SWENY, FL to WEZER, FL [New]

SWENY, FL WP (Lat. 26°33′58.08″ N, long. 082°12′21.08″ W)

RISKS, FL WP (Lat. 27°01′51.89″ N, long. 081°56′40.30″ W)

WEZER, FL WP (Lat. 28°02′26.59″ N, long. 082°02′39.60″ W)

* * * * *

T-339 KARTR, FL to ODDEL, FL [New]

KARTR, FL FIX (Lat. 25°29′45.76″ N, long. 081°30′46.24″ W)

DEEDS, FL FIX (Lat. 25°58′40.31″ N, long. 081°13′59.60″ W)

SWAGS, FL FIX (Lat. 26°10′37.07″ N, long. 081°05′59.93″ W)

ZAGPO, FL WP (Lat. 26°23′47.41″ N, long. 080°57′25.83″ W)

DIDDY, FL FIX (Lat. 27°18′38.15″ N, long. 080°52′55.92″ W)

ODDEL, FL FIX (Lat. 28°05′45.51″ N, long. 081°10′10.24″ W)

* * * * *

T-341 MEAGN, FL to MARQO, FL [New]

MEAGN, FL WP (Lat. 26°14′17.20″ N, long. 080°47′23.64″ W)

ZAGPO, FL WP (Lat. 26°23′47.41″ N, long. 080°57′25.83″ W)

CUSEK, FL WP (Lat. 26°51′38.79″ N, long. 081°23′17.37″ W)

WEZER, FL WP (Lat. 28°02′26.59″ N, long. 082°02′39.60″ W)

VARZE, FL WP (Lat. 28°16′25.85″ N, long. 082°01′44.51″ W)

MARQO, FL WP (Lat. 30°30′53.57″ N, long. 082°32′45.62″ W)

* * * * *

T-343 WORPP, FL to INDIA, FL [New]

WORPP, FL FIX (Lat. 25°53′36.69″ N, long. 080°58′26.87″ W)

CUSEK, FL WP (Lat. 26°51′38.79″ N, long. 081°23′17.37″ W)

FEBRO, FL WP (Lat. 27°37′02.08″ N, long. 081°47′07.68″ W)

TAHRS, FL WP (Lat. 27°52′12.96″ N, long. 081°33′55.12″ W)

YOJIX, FL FIX (Lat. 28°02′44.04″ N, long. 081°33′45.34″ W)

YONMA, FL FIX (Lat. 28°03′55.68″ N, long. 081°24′31.18″ W)

ODDEL, FL FIX (Lat. 28°05′45.51″ N, long. 081°10′10.24″ W)

DEARY, FL FIX (Lat. 28°06′02.53″ N, long. 080°54′51.40″ W)

INDIA, FL FIX (Lat. 28°26′04.19″ N, long. 080°45′55.25″ W)

* * * * *

T-345 MARKT, FL to DEARY, FL [New]

MARKT, FL WP (Lat. 26°22′53.63″ N, long. 080°34′41.82″ W)

AIRBT, FL WP (Lat. 26°46′51.62″ N, long. 080°42′21.85″ W)

DOWDI, FL WP (Lat. 27°07′16.35″ N, long. 080°42′02.47″ W)

LLNCH, FL WP (Lat. 27°26′07.67″ N, long. 080°41′44.46″ W)

DEARY, FL WP (Lat. 28°06′02.53″ N, long. 080°54′51.40″ W)

* * * * *

T-347 CLEFF, FL to SEBAG, FL [New]

CLEFF, FL WP (Lat. 27°00′03.31″ N, long. 080°32′38.27″ W)

BAIRN, FL WP (Lat. 27°56′52.37″ N, long. 081°06′54.35″ W)

SABOT, FL WP (Lat. 28°15′05.10″ N, long. 081°13′37.16″ W)

CROPY, FL WP (Lat. 28°47′32.71″ N, long. 081°21′35.38″ W)

KIZER, FL WP (Lat. 28°55′26.00″ N, long. 081°22′17.83″ W)

GUANO, FL WP (Lat. 29°05′58.73″ N, long. 081°23′18.93″ W)

MRUTT, FL WP (Lat. 29°12′12.40″ N, long. 081°23′55.50″ W)

FOXAM, FL WP (Lat. 29°33′37.73″ N, long. 081°09′37.84″ W)

SEBAG, FL WP (Lat. 29°49′04.24″ N, long. 081°12′34.72″ W)

* * * * *

T-349 VARZE, FL to TROYR, FL [New]

VARZE, FL WP (Lat. 28°16′25.85″ N, long. 082°01′44.51″ W)

TROYR, FL WP (Lat. 29°34′20.92″ N, long. 083°01′52.68″ W)

* * * * *

T-353 FEBRO, FL to ASTOR, FL [New]

FEBRO, FL WP (Lat. 27°37′02.08″ N, long. 081°47′07.68″ W)

MOANS, FL WP (Lat. 27°54′49.97″ N, long. 081°44′54.89″ W)

PUNQU, FL WP (Lat. 28°34′33.65″ N, long. 081°49′22.43″ W)

AKOJO, FL WP (Lat. 28°45′44.01″ N, long. 081°43′31.54″ W)

DAIYL, FL WP (Lat. 28°49′10.74″ N, long. 081°41′29.68″ W)

EMSEE, FL WP (Lat. 28°50′43.72″ N, long. 081°32′47.03″ W)

KIZER, FL WP (Lat. 28°55′26.00″ N, long. 081°22′17.83″ W)

GUANO, FL WP (Lat. 29°05′58.73″ N, long. 081°23′18.93″ W)

MRUTT, FL WP (Lat. 29°12′12.40″ N, long. 081°23′55.50″ W)

FOXAM, FL WP (Lat. 29°33′37.73″ N, long. 081°09′37.84″ W)

ASTOR, FL WP (Lat. 29°47′55.30″ N, long. 081°18′06.11″ W)

* * * * *

Issued in Washington, DC, on February 19, 2021.
Mark E. Gauch,
Acting Manager, Rules and Regulations Team.

[FR Doc. 2021-03842 Filed 2-19-21; 4:55 pm]

BILLING CODE 4910-13-P